DEPARTMENT OF TRANSPORTATION

Coast Guard

33 CFR Part 110

[CGD11-01-003]

RIN 2115-AA98

Anchorage Regulation; San Francisco Bay, CA

AGENCY: Coast Guard, DOT.

ACTION: Final rule.

SUMMARY: The Coast Guard is revising the anchorage boundaries for Anchorages 8, 9, and 24, and specifying procedures for vessels intending to be in a “dead ship” status in the San Francisco Bay Anchorage Grounds. The regulations concerning use of the anchorage by vessels, and the activities permitted in the anchorage areas are not affected by the change in shape and size of these anchorages.

DATES: This rule is effective July 26, 2001.

ADDRESSES: Comments and material received from the public, as well as documents indicated in this preamble as being available in the docket, are part of docket [CGD11-01-003], and are available for inspection or copying at Coast Guard Marine Safety Office San Francisco Bay, Bldg. 14, Coast Guard Island, Alameda, CA 94501, between 7:30 a.m. and 4 p.m., Monday through Friday, except Federal holidays.

FOR FURTHER INFORMATION CONTACT: Lieutenant Patricia Springer, Vessel Traffic Management Section, Coast Guard Eleventh District/Pacific Area, (510) 437-2943, email: pspringer@d11.uscg.mil.

SUPPLEMENTARY INFORMATION:

Regulatory Information

On February 28, 2001, we published a notice of proposed rulemaking (NPRM) entitled Anchorage Regulation; San Francisco Bay, California in the Federal Register (66 FR 12742). We did not receive any letters commenting on the proposed rule. No public hearing was requested, and none was held.

Background and Purpose

Due to changing uses of the waterways in the San Francisco Bay region—including the closure of Naval Air Station Alameda, the trend of larger ships arriving in the Bay, and the anticipated growth of faster Marine Transportation Systems—mariners have requested changes to several anchorage grounds. Recent situations have demanded increased use and space for Anchorages 8 and 9. Vessels have had to take anchor while awaiting the departure of another at berth. Periodic labor strikes and disputes have caused delays in the turnaround time of cargo, which in turn have filled the anchorages to capacity. In general, this rule allows more room for the anchorages while enhancing safer and more efficient use of the waterways through San Francisco Bay and the Carquinez Strait.

The Coast Guard conducted a Waterways Analysis and Management study of the San Pablo Bay and Carquinez Strait in late 1998. One of the recommendations of the study, which was based primarily on the comments of mariners using the waterway, was to make better use of the navigable waters of the Carquinez Strait just south-southeast of Southampton Bay. The Coast Guard has established a buoy marking the edge of the useable channel just west-southwest of Commodore Jones Point, effectively shrinking the area that is currently Anchorage 24.

Currently, safety measures for anchoring in the San Francisco Bay in a dead-ship status are addressed by individual COTP orders. The term “dead ship” refers to when a vessel's propulsion or control is unavailable for normal operations. This rule will enhance the safety of navigation in the area by designating a dead-ship anchorage, away from usual areas of navigation on the bay, and by uniformly requiring the assistance of a tugboat when anchoring in a dead ship status. Also, the owner/operator will now be able to make its own arrangements for a tug without having to gain the approval of the COTP before proceeding to the dead-ship anchorage.

Discussion of Comments and Changes

We did not receive any letters commenting on the proposed rule. The final rule has not been changed from the proposed language, except to make a technical amendment. In paragraph 2.c. of the amendatory language of the NPRM, we incorrectly stated we were revising subparagraphs (e)(5), (e)(6) and (e)(17) of paragraph (d). We have corrected the incorrect reference to paragraph (d) here.

Regulatory Evaluation

This rule is not a “significant regulatory action” under section 3(f) of Executive Order 12866, Regulatory Planning and Review, and does not require an assessment of potential costs and benefits under section 6(a)(3) of that Order. The Office of Management and Budget has not reviewed it under that Order. It is not “significant” under the regulatory policies and procedures of the Department of Transportation (DOT) (44 FR 11040; February 26, 1979).

The changes in the size and shape of anchorage areas are slight and the purpose is to conform to the changed use of the harbor and to make best use of available water. As for implementing the dead ship regulation, this rulemaking simply makes official in the regulation what has already been in practice.

Small Entities

Under the Regulatory Flexibility Act (5 U.S.C. 601-612), we considered whether this rule would have a significant economic impact on a substantial number of small entities. The term “small entities” comprises small businesses, not-for-profit organizations that are independently owned and operated and are not dominant in their fields, and governmental jurisdictions with populations less than 50,000.

The Coast Guard certifies under 5 U.S.C. 605(b) that this rule will not have a significant economic impact on a substantial number of small entities.

Assistance for Small Entities

If your small business or organization is affected by this rule and you have questions concerning its provisions or options for compliance, please contact Lieutenant Andrew B. Cheney, U.S. Coast Guard Marine Office San Francisco Bay at (510) 437-3073.

Small businesses may send comments on the actions of Federal employees who enforce, or otherwise determine compliance with, Federal regulations to the Small Business and Agriculture Regulatory Enforcement Ombudsman and the Regional Small Business Regulatory Fairness Boards. The Ombudsman evaluates these actions annually and rates each agency's responsiveness to small business. If you wish to comment on actions by employees of the Coast Guard, call 1-888-REG-FAIR (1-888-734-3247).

Collection of Information

This rule calls for no new collection of information under the Paperwork Reduction Act of 1995 (44 U.S.C. 3501-3520).

Federalism

We have analyzed this rule under Executive Order 13132 Federalism, and have determined that this rule does not have implications for federalism under that Order.

Unfunded Mandates Reform Act

The Unfunded Mandates Reform Act of 1995 (2 U.S.C. 1531-1538) governs the issuance of Federal regulations that require unfunded mandates. An unfunded mandate is a regulation that requires a State, local, or tribal government or the private sector to incur direct costs without the Federal Government's having first provided the funds to pay those unfunded mandate costs. This rule will not impose an unfunded mandate.

Taking of Private Property

This rule will not effect a taking of private property or otherwise have taking implications under Executive Order 12630, Governmental Actions and Interference with Constitutionally Protected Property Rights.

Civil Justice Reform

This rule meets applicable standards in sections 3(a) and 3(b)(2) of Executive Order 12988, Civil Justice Reform, to minimize litigation, eliminate ambiguity, and reduce burden.

Protection of Children

We have analyzed this rule under Executive Order 13045, Protection of Children from Environmental Health Risks and Safety Risks. This rule is not an economically significant rule and does not create an environmental risk to health or risk to safety that may disproportionately affect children.

Environment

We have considered the environmental impact of this rule and concluded that under figure 2-1, paragraph 34(f) of Commandant Instruction M16475.1C, this rule is categorically excluded from further environmental documentation. In the above referenced Coast Guard policy instruction, the Coast Guard has determined that no further environmental documentation is required when changing the size of Special Anchorage Areas or anchorage grounds, or when disestablishing or reducing the size of the Area or grounds, as in Anchorage No. 24. Because the Coast Guard is increasing the size of Anchorages No. 8 and 9, the Coast Guard has completed a Categorical Exclusion Document (CED), which is available in the docket for inspection or copying where indicated under ADDRESSES.

Indian Tribal Governments

This rule does not have tribal implications under Executive Order 13175, Consultation and Coordination with Indian Tribal Governments, because it does not have a substantial direct effect on one or more Indian tribes, on the relationship between the Federal Government and Indian tribes, or on the distribution of power and responsibilities between the Federal Government and Indian tribes.

List of Subjects in 33 CFR Part 110

Anchorage grounds.

For the reasons discussed in the preamble, the Coast Guard amends 33 CFR part 110 as follows:

PART 110—[AMENDED]

1. The authority citation for part 110 continues to read as follows:

Authority: 33 U.S.C. 471, 1221 through 1236, 2030, 2035, and 2071; 49 CFR 1.46 and 33 CFR 1.05-1(g).

2. Section 110.224 is amended as follows:

a. Add a new paragraph (a)(18);

b. In paragraph (d), revise Table 110.224(D)(1) and add a new paragraph m to Notes at the end of the table; and

c. Revise paragraphs (e)(5), (e)(6), and (e)(17) to read as follows:

§ 110.224 San Francisco Bay, San Pablo Bay, Carquinez Strait, Suisun Bay, Sacramento River, San Joaquin River, and connecting waters, CA.

(a) * * *

(18) No vessel may anchor in a “dead ship” status (propulsion or control unavailable for normal operations) at any anchorage other than in Anchorage 9 as specified in Table 110.224(D)(1) without prior approval of the Captain of the Port.

* * * * *

(d) * * *

Table 110.224(D)(1)
Anchorage No. | General location | Purpose | Specific regulations
4 | San Francisco Bay | General | Notes a, b.
5 | ......do | ......do | Do.
6 | ......do | ......do | Note a.
7 | ......do | ......do | Notes a, b, c, d, e.
8 | ......do | ......do | Notes a, b, c.
9 | ......do | ......do | Notes a, b, m.
10 | ......do | Naval | Note a.
12 | ......do | Explosives | Notes a, f.
13 | ......do | ......do | Notes a, e, g.
14 | ......do | ......do | Notes a, f, h.
18 | San Pablo Bay | General
19 | ......do | ......do | Note b.
20 | ......do | ......do
21 | ......do | Naval
22 | Carquinez Strait | General
23 | Benicia | General | Notes c, d, e, l.
24 | Carquinez Strait | General | Note j.
26 | Suisan Bay | ......do | Note k.
27 | ......do | ......do
28 | San Joaquin River | ......do
30 | ......do | Explosives

Notes: a. When sustained winds are in excess of 25 knots each vessel greater than 300 gross tons using this anchorage shall maintain a continuous radio watch on VHF channel 13 (156.65 MHz) and VHF channel 14 (156.70 MHz). This radio watch must be maintained by a person who fluently speaks the English language.

b. Each vessel using this anchorage may not project into adjacent channels or fairways.

c. This anchorage is primarily for use by vessels requiring a temporary anchorage waiting to proceed to pier facilities or other anchorage grounds. This anchorage may not be used by vessels for the purpose of loading any dangerous cargoes or combustible liquids unless authorized by the Captain of the Port.

d. Each vessel using this anchorage may not remain for more than 12 hours unless authorized by the Captain of the Port.

e. Each vessel using this anchorage shall be prepared to move within 1 hour upon notification by the Captain of the Port.

f. The maximum total quantity of explosives that may be on board a vessel using this anchorage shall be limited to 3,000 tons unless otherwise authorized with the written permission of the Captain of the Port.

g. The maximum total quantity of explosives that may be on board a vessel using this anchorage shall be limited to 50 tons except that, with the written permission of the Captain of the Port, each vessel in transit, loaded with explosives in excess of 50 tons, may anchor temporarily in this anchorage provided that the hatches to the holds containing explosives are not opened.

h. Each vessel using this anchorage will be assigned a berth by the Captain of the Port on the basis of the maximum quantity of explosives that will be on board the vessel.

i. [Reserved]

j. Each vessel using this anchorage shall promptly notify the Captain of the Port, upon anchoring and upon departure.

k. See § 162.270 of this title establishing restricted areas in the vicinity of the Maritime Administration Reserve Fleet.

l. Vessels using this anchorage must exceed 15 feet draft, have engines on standby, and have a pilot on board.

m. Any vessel anchoring in a “dead-ship” status shall have one assist tug of adequate bollard pull on standby and immediately available (maximum of 15 minute response time) to provide emergency maneuvering. When the sustained winds are 20 knots or greater, or when the wind gusts are 25 knots or greater, the tug must be alongside.

(e) * * *

(5) Anchorage No. 8. In San Francisco Bay bounded by the west shore of Alameda Island and the following lines: Beginning at 37°47′52″ N, 122°19′58″ W; thence west-northwesterly to 37°48′02.5″ N 122°21′01.5″ W; thence west-southwesterly to 37°47′51.5″ N, 122°21′40″ W; thence south-southwesterly to 37°47′35.5″ N, 122°21′50″ W; thence south-southeasterly to 37°46′40″ N, 122°21′23″ W; thence easterly to 37°46′36.5″ N, 122°19′52″ W; thence northerly to shore at 37°46′53″ N, 122°19′53.5″ W (NAD 83).

(6) Anchorage No. 9. In San Francisco Bay bounded on the east by the eastern shore of San Francisco Bay and on the north by the southern shore of Alameda Island and a line beginning at 37°46′21.5″ N, 122°19′07″ W; thence westerly to 37°46′30″ N, 122°21′56″ W; thence south-southeasterly to 37°41′45″ N, 122°20′22″ W (San Bruno Channel Light 1); thence south-southeasterly to 37°38′38.5″ N, 122°18′48.5″ W (San Bruno Channel Light 5); thence southeasterly to 37°36′05″ N, 122°14′18″ W; thence northeasterly to shore at 37°37′38.5″ N, 122°09′06.5″ W (NAD 83).

* * * * *

(17) Anchorage No. 24. Bounded by the north shore of Carquinez Strait and the following points: Beginning on the shore at Dillon Point at 38°03′44″ N, 122°11′34″ W; thence southeasterly to 38°03′21″ N, 122°10′43″ W; thence southeasterly to 38°02′36″ N, 122°10′03″ W (Carquinez Strait Light 23); thence to the shore at the Benicia City Wharf at 38°02′40″ N, 122°09′55″ W (NAD 83).

* * * * *

Dated: June 11, 2001.
E.R. Riutta,
Vice Admiral, U.S. Coast Guard, Commander, Eleventh Coast Guard District.

[FR Doc. 01-15996 Filed 6-25-01; 8:45 am]

BILLING CODE 4910-15-P